DEPARTMENT OF AGRICULTURE

Forest Service

Northeast Oregon Forests Resource Advisory Committee

AGENCY: Forest Service, Agriculture (USDA).

ACTION: Notice of meeting.

SUMMARY: The Northeast Oregon Forests Resource Advisory Committee (RAC) will hold a public meeting according to the details shown below. The committee is authorized under the Secure Rural Schools and Community Self-Determination Act (the Act) and operates in compliance with the Federal Advisory Committee Act (FACA). The purpose of the committee is to improve collaborative relationships and to provide advice and recommendations to the Forest Service concerning projects and funding consistent with Title II of the Act as well as to make recommendations on recreation fee proposals for sites on the Malheur, Umatilla, and Wallowa-Whitman National Forests, consistent with the Federal Lands Recreation Enhancement Act. General information and meeting details can be found at the following websites:

• Malheur National Forest: https://www.fs.usda.gov/main/malheur/workingtogether/advisorycommittees

• Umatilla National Forest: https://www.fs.usda.gov/main/umatilla/workingtogether/advisorycommittees

• Wallowa-Whitman National Forest: https://www.fs.usda.gov/main/wallowa-whitman/workingtogether/advisorycommittees

DATES: The meeting will be held on July 11, 2022, 01:00 p.m.-04:30 p.m., Pacific Daylight Time. All RAC meetings are subject to cancellation. For status of the meeting prior to attendance, please contact the person listed under FOR FURTHER INFORMATION CONTACT.

ADDRESSES: This meeting will be held at Eastern Oregon University, located at One University Boulevard, Zebel Building, Room 101, La Grande, OR 97850. This location is dependant on county COVID-19 status at the time of the meeting. The public may also join virtually via telephone and/or video conference. Virtual meeting participation details can be found on the website listed under Summary or by contacting the person listed under For Further Information Contact.

Written comments may be submitted as described under Supplementary Information. All comments, including names and addresses when provided, are placed in the record and are available for public inspection and copying. The public may inspect comments received upon request.

FOR FURTHER INFORMATION CONTACT: Doug McKay, Designated Federal Officer (DFO), by phone at 541-303-3977 or email at douglas.mckay@usda.gov or Darcy Weseman, RAC Coordinator, at 541-278-3722 or email at darcy.weseman@usda.gov.

Individuals who use telecommunication devices for the deaf and hard of hearing (TDD) may call the Federal Relay Service (FRS) at 1-800-877-8339, 24 hours a day, every day of the year, including holidays.

SUPPLEMENTARY INFORMATION: The purpose of the meeting is to:

1. Elect a Chairperson;

2. Member Orientation; and

3. Schedule the next meeting.

The meeting is open to the public. The agenda will include time for people to make oral statements of three minutes or less. Individuals wishing to make an oral statement should make a request in writing at least three days prior to the meeting date to be scheduled on the agenda. Anyone who would like to bring related matters to the attention of the committee may file written statements with the committee staff before or after the meeting. Written comments and requests for time for oral comments must be sent to Doug McKay, P.O. Box 7, 117 S Main St., Heppner, OR or by email to douglas.mckay@usda.gov. Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Equal opportunity practices in accordance with USDA's policies will be followed in all appointments to the Committee. To ensure that the recommendations of the Committee have taken in account the needs of the diverse groups served by USDA, membership shall include to the extent possible, individuals with demonstrated ability to represent minorities, women, and persons with disabilities. USDA is an equal opportunity provider, employer, and lender.

Dated: June 21, 2022.
Cikena Reid,
USDA Committee Management Officer.

[FR Doc. 2022-13554 Filed 6-23-22; 8:45 am]

BILLING CODE 3411-15-P